FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Caribbean Express Shipping Company, Inc., 2706 NW. 31 Avenue, Lauderdale Lakes, FL 33311. Officers: Chijioki Azuogu, President (Qualifying Individual), Eberechukwu Azuogu, Vice President.

R & S Trading, Lerida 310, Urb. Valencia, Rio Piedras, PR 00924, Carlos B. Sanchez, Sole Proprietor.

Air Trans Logistics (USA) Inc., 148-36 Guy R Brewster Blvd., #211, Jamaica, NY 11434. Officers: Kwok Keung Wong, Secretary (Qualifying Individual), Yim Chi Wong, Vice President.

Sta. Lucia Cargo, 765 E. Yucca Street, Oxnard, CA 93033. Officer: Paulino J. Gerardo, CFO (Qualifying Individual).

New Cargo Express Corp., 133-40 Lefferts Blvd., S. Ozone Park, NY 11420. Officers: Estervina Rodriguez, President (Qualifying Individual), Persio Rodriguez, Secretary.

Non-Vessel Operating Common Carrier and Ocean Freight Forwarder Transportation Intermediary Applicants:

Skysea Freight International USA LLC, 1400 Elmhurst Road, Elk Grove Village, IL 60007. Officers: Sherry Lynn Gocal, Member Manager (Qualifying Individual), Syed Abdul Cader, Member.

Global Express Shipping & Delivery, Inc., 433 Red Oak Lane, Lawrenceville, GA 30045. Officer: Alfred M. Khannu, President/Chairman (Qualifying Individual).

Freight Systems Inc., 147-14 182nd Street, Jamaica, NY 11413. Officers: Sandford Lobo, Vice President (Qualifying Individual), David Phillips, President.

Consolidated Shipping Line, Inc., 535 Eight Avenue, New York, NY 10018. Officer: Albert Panelli, Vice President (Qualifying Individual).

Barrow Freight System, Inc., 522 Woodlake Drive, Fairfield, CA 94534. Officer: David Wang, Vice President (Qualifying Individual).

Ocean Freight Forwarder—Ocean Transportation Intermediary Applicants:

Argo Cargo, Inc., 10044 Premier Parkway, Miramar, FL 33025. Officers: Jason John Propsom, Vice President (Qualifying Individual), Daniel F. Murray, III, President.

International Freight Experts Inc., 8006 Collingwood Court, Bradenton, FL 34201-2350. Officer: Christine Ann Aron, President (Qualifying Individual).

Gorham Export Packing LLC, 7516 Lawndale, Houston, TX 77012. Officer: Gerson D. Sosa, Managing Director (Qualifying Individual).

Globe Express International, LLC, 17902 Kay Ct., Cerritos, CA 90703. Officers: Eduardo D. Flores, Vice President (Qualifying Individual), Linne D. Flores, President.

Dated: October 3, 2003.
Bryant L. VanBrakle,
Secretary.

[FR Doc. 03-25526 Filed 10-7-03; 8:45 am]

BILLING CODE 6730-01-P